DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2002 Economic Census covering the Utilities; Transportation and Warehousing; Finance and Insurance; and Real Estate, Rental and Leasing Sectors.

Form Number(s): The 36 report forms are too numerous to list here.

Agency Approval Number: None.

Type of Request: New collection.

Burden: 829,579 hours in FY 2003.

Number of Respondents: 633,007.

Avg Hours Per Response: 1.3 hours.

Needs and Uses: The 2002 Economic Census covering the Utilities; Transportation and Warehousing; Finance and Insurance; and Real Estate, Rental and Leasing Sectors will use a mail canvas, supplemented by data from Federal administrative records, to measure the economic activity of more than 994,000 establishments in these sectors of the economy as classified in the North American Industry Classification System (NAICS).

The Utilities sector comprises establishments primarily engaged in the provision of utility services through a permanent infrastructure. The Transportation sector comprises establishments primarily engaged in transporting people and goods. The Warehousing sector comprises establishments primarily engaged in warehousing and storage for goods. The Finance and Insurance sector comprises two types of establishments: those engaged in financial transactions, that is, transactions involving the creation, liquidation, or change in ownership of financial assets, or in facilitating financial transactions; and those engaged in the intermediating as the consequence of pooling risks and facilitating such intermediation. The Real Estate subsector comprises establishments primarily engaged in leasing real estate to others, as well as real estate managers, agents, and brokers. The Rental and Leasing subsector comprises establishments primarily engaged in acquiring, owning, and making available a wide variety of tangible goods such as machinery, equipment, computers, and consumer goods to businesses or individuals, in return for a periodic rental or lease payment.

The economic census will produce basic statistics by kind of business for number of establishments, revenue, payroll, and employment. It also will yield a variety of subject statistics, including sources of revenue, and other industry-specific measures, such as insurance benefits paid to policyholders, exported services, purchased transportation, and exported energy. Basic statistics will be summarized for the United States, states, metropolitan areas and, in some cases, for counties and places having 2,500 inhabitants or more. Tabulations of subject statistics also will present data for the United States and, in some cases, for states.

Affected Public: Businesses or other for-profit organizations, individuals or households, not-for-profit institutions, State, local or Tribal governments.

Frequency: One time.

Respondent's Obligation: Mandatory.

Legal Authority: Title 13 U.S.C., Sections 131 and 224.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: May 25, 2001.
Madeleine Clayton,
Departmental Paperwork Clearance Officer, Office of the Chief Information Officer.

[FR Doc. 01-13622 Filed 5-30-01; 8:45 am]

BILLING CODE 3510-07-P